DEPARTMENT OF COMMERCE

International Trade Administration

[C-533-874]

Certain Cold-Drawn Mechanical Tubing of Carbon and Alloy Steel From India: Partial Rescission of the Countervailing Duty Administrative Review; 2017-2018

AGENCY: Enforcement and Compliance, International Trade Administration, Department of Commerce.

SUMMARY: The Department of Commerce (Commerce) is rescinding the administrative review in part, of the countervailing duty (CVD) order on certain cold-drawn mechanical tubing of carbon and alloy steel (cold-drawn mechanical tubing) from India covering the September 25, 2017, through December 31, 2018 period of review (POR).

DATES: Applicable August 23, 2019.

FOR FURTHER INFORMATION CONTACT: Hannah Falvey, AD/CVD Operations, Office V, Enforcement and Compliance, International Trade Administration, U.S. Department of Commerce, 1401 Constitution Avenue NW, Washington, DC 20230; telephone (202) 482-4889.

Background

On February 8, 2019, Commerce published a notice of opportunity to request an administrative review of the CVD order on cold-drawn mechanical tubing from India covering the September 25, 2017, through December 31, 2018 POR.¹ On February 28, 2019, Commerce received a timely request from ArcelorMittal Tubular Products LLC and Webco Industries, Inc. (collectively, the petitioners) to conduct a CVD administrative review of 13 companies.² On February 28, 2019, Commerce received timely requests from Goodluck India Limited (Goodluck) and Tube Investments of India Ltd. (TII) to conduct an administrative review of the CVD order on cold-drawn mechanical tubing from India.³ Based upon these requests, on May 2, 2019, in accordance with section 751(a) of the Tariff Act of 1930, as amended (the Act), Commerce published a notice of initiation of an administrative review covering the POR, with respect to the 14 companies for which a review was requested.⁴ On June 18, 2019, we selected Goodluck and TII as mandatory respondents in this administrative review.⁵ The deadline for a party to withdraw a request for review was July 31, 2019.⁶

¹ See Antidumping or Countervailing Duty Order, Finding, or Suspended Investigation; Opportunity to Request Administrative Review, 84 FR 2816 (February 8, 2019).

² See the petitioners' Letter, “Cold-Drawn Mechanical Tubing from India—Domestic Industry's Request for 2017-2018 First Administrative Review,” dated February 28, 2019 (Petitioners' Request for Review).

³ See Goodluck's Letter, “Certain Cold-Drawn Mechanical Tubing of Carbon and Alloy Steel from India: Request for Countervailing Duty Administrative Review,” dated February 28, 2019 (Goodluck's Request for Review), see also, TII's Letter, “Cold-Drawn Mechanical Tubing from India: Request for Administrative Review,” dated February 28, 2019 (TII's Request for Review).

⁴ See Initiation of Antidumping and Countervailing Duty Administrative Reviews, 84 FR 18777 (May 2, 2019) (Initiation Notice).

⁵ See Memorandum, “Countervailing Duty Administrative Review of Certain Cold-Drawn Mechanical Tubing of Carbon and Alloy Steel from India: Respondent Selection,” dated June 18, 2019, see also, Initiation Notice (we initiated a review of Good Luck India Limited (based on Goodluck's request) and Good Luck Industries (based on the petitioner's request). In the Respondent Selection Memorandum, we noted that we combined the names of companies with minor variations in the spelling. Based on the U.S. Customs and Border Protection data, the largest exporters were TII and “Good Luck Industries.” For respondent selection purposes, we combined Good Luck India Limited and Good Luck Industries together as the same company, and we selected Good Luck India Limited as a mandatory respondent. We further note that these companies have the same address. See Petitioners' Request for Review; see also Goodluck's Request for Review. Therefore, we are continuing our review of Good Luck India Limited and Good Luck Industries).

⁶ See Initiation Notice.

Withdrawal of Review Requests

On June 27, 2019, the petitioners timely withdrew their request for an administrative review of 11 companies: Automotive Steel Pipe; Bhushan Steel Ltd.; Hyundai Steel Pipe India Pvt., Ltd.; Innoventive Industries; ISMT Limited; Jindal (India) Ltd.; Jindal Saw Ltd.; Pennar Industries, Inc.; Sandvik Asia Pvt., Ltd.; Tata Steel BSL Limited; and Tube Products of India.⁷ No other parties requested a review of these companies.

⁷ See the petitioners' Letter, “Cold-Drawn Mechanical Tubing from India—Petitioners' Partial Withdrawal of Review Request,” dated June 27, 2019.

Rescission in Part

Pursuant to 19 CFR 351.213(d)(1), Commerce will rescind an administrative review, “in whole or in part, if a party that requested the review withdraws the request within 90 days of the date of publication of notice of initiation of the requested review.” The petitioners timely withdrew their request for review of the 11 companies. Because we received no other requests for review of the 11 companies, we are rescinding the administrative review, in part, with respect to these 11 companies, in accordance with 19 CFR 351.213(d)(1). This administrative review will continue with respect to Goodluck and TII.⁸

⁸ As noted supra, our review of Goodluck covers entities Good Luck India Limited and Good Luck Industries.

Assessment

Commerce will instruct U.S. Customs and Border Protection (CBP) to assess countervailing duties on all appropriate entries. For the companies for which this review is rescinded, countervailing duties shall be assessed at rates equal to the cash deposit of estimated countervailing duties required at the time of entry, or withdrawal from warehouse, for consumption, in accordance with 19 CFR 351.212(c)(1)(i). Commerce intends to issue appropriate assessment instructions directly to CBP 15 days after publication of this notice.

Notification to Importers

This notice serves as a reminder to importers of their responsibility under 19 CFR 351.402(f)(2) to file a certificate regarding the reimbursement of countervailing duties prior to liquidation of the relevant entries during this review period. Failure to comply with this requirement could result in the presumption that reimbursement of countervailing duties occurred and the subsequent assessment of doubled countervailing duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

This notice is issued and published in accordance with section 751(a)(1) and 777(i)(1) of the Tariff Act of 1930, as amended, and 19 CFR 351.213(d)(4).

Dated: August 19, 2019.
James Maeder,
Deputy Assistant Secretary for Antidumping and Countervailing Duty Operations.

[FR Doc. 2019-18191 Filed 8-22-19; 8:45 am]

BILLING CODE 3510-DS-P